DEPARTMENT OF HEALTH AND HUMAN SERVICES

Centers for Disease Control and Prevention

National Center for Health Statistics (NCHS), Classifications and Public Health Data Standards Staff, Announces the Following Meeting

Name: ICD-10 Coordination and Maintenance (C&M) Committee meeting.

Time and Date: 9:00 a.m.-5:00 p.m., March 18-19, 2015

Place: Centers for Medicare and Medicaid Services (CMS) Auditorium, 7500 Security Boulevard, Baltimore, Maryland 21244.

Status: Open to the public, limited only by the space available. The meeting room accommodates approximately 240 people. We will be broadcasting the meeting live via Webcast at hhtp://www.cms.gov/live/.

Security Considerations: Due to increased security requirements CMS has instituted stringent procedures for entrance into the building by non-government employees. Attendees will need to present valid government-issued picture identification, and sign-in at the security desk upon entering the building.

Attendees who wish to attend the March 18-19, 2015 ICD-10-CM C&M meeting must submit their name and organization by March 13, 2015, for inclusion on the visitor list. This visitor list will be maintained at the front desk of the CMS building and used by the guards to admit visitors to the meeting.

Participants who attended previous Coordination and Maintenance meetings will no longer be automatically added to the visitor list. You must request inclusion of your name prior to each meeting you wish attend.

Please register to attend the meeting on-line at: http://www.cms.hhs.gov/apps/events/ Please contact Mady Hue (410-786-4510 or Marilu.hue@cms.hhs.gov), for questions about the registration process.

Purpose: The ICD-10 Coordination and Maintenance (C&M) Committee is a public forum for the presentation of proposed modifications to the International Classification of Diseases, Tenth Revision, Clinical Modification and ICD-10 Procedure Coding System.

Matters For Discussion: Tentative agenda items include:

March 18-19, 2015

ICD-10-PCS Topics:

Administration of Blincyto (blinatumomab)

Irreversible Electroporation

Administration of Idarucizumab

Coronary Orbital Atherectomy

Administration of CRESEMBA (Isavuconazonium)

Insertion of Tibial Insert

Removal of Thrombus and Emboli

Organ Perfusion for Transplants

Fenestrated Grafts

Creation of Atrial Septal Defect

Pediatric Congenital Heart Procedures

Modified Blalock-Taussig Shunt

Arterial Switch Operation

Rastelli Procedure

Repair of Complete Common

Atrioventricular Canal Defect

Truncus Arteriosus Repair

Balloon Atrial Septostomy

Addenda and Key Updates

ICD-10 Topics:

ICD-10-PCS X Code

ICD-10 MS-DRGs Impact Update

End to End Testing

ICD-10-CM Diagnosis Topics:

Vaccine and prophylactic immunotherapy administration

External cause codes for over exertion; repetitive motion

Acute Kidney Injury (AKI)

Chronic Kidney Disease (CKD)

Hepatic Encephalopathy (HE)

Acute Pancreatitis

Exocrine Pancreatic Insufficiency

Childhood Asymmetric Labium Majus Enlargement (CALME)

Longitudinal Vaginal Septum

Prepubertal Vaginal Bleeding

Prepubertal Vulvovaginitis

Transverse Septum

Interruption of Aortic Arch

Congenital malformations of aorta

Observation and evaluation of newborns for suspected and ruled-out conditions

ICD-10-CM Addendum

Agenda items are subject to change as priorities dictate.

Note: CMS and NCHS no longer provide paper copies of handouts for the meeting. Electronic copies of all meeting materials will be posted on the CMS and NCHS Web sites prior to the meeting at http://www.cms.hhs.gov/ICD9ProviderDiagnosticCodes/03_meetings.asp#TopOfPage and http://www.cdc.gov/nchs/icd/icd9cm_maintenance.htm.

Contact Persons For Additional Information: Donna Pickett, Medical Systems Administrator, Classifications and Public Health Data Standards Staff, NCHS, 3311 Toledo Road Hyattsville, Maryland 20782, email dfp4@cdc.gov, telephone 301-458-4434 (diagnosis); Mady Hue, Health Insurance Specialist, Division of Acute Care, CMS, 7500 Security Boulevard, Baltimore, Maryland, 21244, email marilu.hue@cms.hhs.gov, telephone 410-786-4510(procedures). The Director, Management Analysis and Services Office, has been delegated the authority to sign Federal Register notices pertaining to announcements of meetings and other committee management activities, for both the Centers for Disease Control and Prevention, and the Agency for Toxic Substances and Disease Registry.

Elaine L. Baker,
Director, Management Analysis and Services Office, Centers for Disease Control and Prevention.

[FR Doc. 2015-03683 Filed 2-23-15; 8:45 am]

BILLING CODE 4160-18-P